COMMODITY FUTURES TRADING COMMISSION

Sunshine Act Meetings

TIME AND DATE: 10:30 a.m., Thursday, May 27, 2004.

PLACE: 1155 21st St., NW., Washington, DC, 9th Floor Commission Conference Room.

STATUS: Closed.

MATTERS TO BE CONSIDERED: Rule Enforcement Review.

CONTACT PERSON FOR MORE INFORMATION: Jean A. Webb, (202) 418-5100.

Jean A. Webb,
Secretary of the Commission.

[FR Doc. 04-9995 Filed 4-28-04; 1:36 pm]

BILLING CODE 6351-01-M